DEPARTMENT OF HEALTH AND HUMAN SERVICES

Administration for Children and Families

[OMB No. 0970-0323]

Proposed Information Collection Activity; Child Care Improper Payments Data Collection Instructions

AGENCY: Office of Child Care, Administration for Children and Families, HHS.

ACTION: Request for public comment.

SUMMARY: The Administration for Children and Families is proposing revisions to an approved information collection, Child Care Improper Payments Data Collection Instructions (OMB #0970-0323, expiration 10/31/2021). There are minor changes requested to the form.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: Section 2 of the Payment Integrity Information Act of 2019 (PIIA) provides for estimates and reports of improper payments by federal agencies. Subpart K of 45 CFR, Part 98 of the Child Care and Development Fund (CCDF) requires states to prepare and submit a report of errors occurring in the administration of CCDF grant funds once every 3 years.

The Office of Child Care (OCC) is completing the fifth 3-year cycle of case record reviews to meet the requirements for reporting under PIIA. The current data collection forms and instructions expire October 31, 2021. As part of the renewal process, OCC has revised the document with minor changes that do not change the methodology, but provide respondents with additional guidance, clarification, and support to facilitate completeness and accuracy of the required data submissions.

Clarifying language and a question have been added to the revised document to support Lead Agencies that administer all or part of the CCDF program through other governmental or non-governmental agencies to include the following:

• In Section 1 Introduction on page 2, a subsection “Considerations for Administering CCDF Through Other Agencies” was added to describe how Lead Agency responsibilities in administering the CCDF program through other entities apply to the error rate review process.

• In Section III Creating the Sampling Decisions, Assurances, and Fieldwork Preparation Plan on page 11, and the Sampling Decisions, Assurances, and Fieldwork Preparation Plan Report template (Attachment 1), a new item was added at Item 3g Case Review Logistics to request information about how a Lead Agency accesses documents stored by other entities if part of eligibility is determined by the other entity.

OCC is particularly interested in feedback about the clarity of these instructions and the ease and accuracy with which respondents can provide information on accessing documents stored by other entities.

Respondents: State grantees, the District of Columbia, and Puerto Rico.

Annual Burden Estimates
Instrument | Total number of respondents | Total number of responses per respondent | Average burden hours per response | Total burden hours | Annual burden hours
Sampling Decisions, Assurances, and Fieldwork Preparation Plan | 52 | 1 | 106 | 5,512 | 1,837
Record Review Worksheet | 52 | 276 | 6.33 | 90,848 | 30,283
State Improper Payments Report | 52 | 1 | 639 | 33,228 | 11,076
Corrective Action Plan | 5 | 2 ᵃ | 156 | 1,560 | 520
Estimated Total Annual Burden Hours |  |  |  |  | 43,716
ᵃ The total number of responses per respondent ranges from one to three, depending on how long it takes respondents to reduce the Improper Payment Rate to below the threshold. Respondents submit a Corrective Action Plan that covers a 1-year period; at the end of each year, if respondents have not reduced the Improper Payment Rate to below the threshold, they submit a new Corrective Action Plan for the following year. An average of two responses per respondent is used to calculate annual burden estimates.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR part 98, subpart K.

Mary B. Jones,
ACF/OPRE Certifying Officer.

[FR Doc. 2021-07425 Filed 4-9-21; 8:45 am]

BILLING CODE 4184-43-P